DEPARTMENT OF TRANSPORTATION

Surface Transportation Board

[Docket No. FD 35907]

Dakota, Minnesota & Eastern Railroad Corporation—Trackage Rights Exemption—Soo Line Railroad Company

Soo Line Railroad Company (Soo), pursuant to a written trackage rights agreement dated March 27, 2015,¹ has agreed to grant overhead and local trackage rights to Dakota, Minnesota & Eastern Railroad Corporation (DM&E) over approximately 132.6 miles of rail line (the Line) extending (1) between Goodview, Minn., and Merriam Park in St. Paul, Minn., and (2) between Goodview and Bridge Switch in Bluff, Minn.²

¹ The agreement replaces and supersedes the incidental trackage rights previously authorized by the Board. See I&M Rail Link—Acquis. & Operation Exemption—Certain Lines of Soo Line R.R., FD 33326 (STB served Apr. 9, 1997).

² Specifically, the new trackage rights extend from Soo's connection with DM&E at milepost 313.2 +/− of Soo's River Subdivision at or in the vicinity of Goodview, over Soo's River Subdivision to Winona, Minn., north to the connection with Soo's Merriam Park Subdivision, and continue to Merriam Park at milepost 416.2 +/− in St. Paul. The trackage rights also include the line from Soo's River Subdivision at Goodview to Soo's Tomah Subdivision at River Junction West, Minn., and continue to Bridge Switch at milepost 283.6 +/− at or in the vicinity of Bluff.

This transaction is related to a concurrently filed verified notice of exemption in Soo Line Railroad—Trackage Rights Exemption—Dakota, Minnesota & Eastern Railroad, Docket No. FD 35906, wherein DM&E has agreed to grant Soo overhead and local trackage rights over approximately 223.1 miles of rail line extending between Goodview and Tracy, Minn.

DM&E may consummate its acquisition on or after April 29, 2015, the effective date of the exemption (30 days after the verified notice of exemption was filed).

According to DM&E, the proposed transaction, along with the transaction in Docket No. FD 35906, is part of an exchange of nonexclusive trackage rights between two affiliated rail carriers ³ that is intended to allow more fluid and efficient operations over both carriers. DM&E's trackage rights will include the right to conduct both overhead and local service, including the right to perform pickups and setoffs at customer facilities over the Line.

³ Soo and DM&E are affiliated carriers under common control pursuant to Board authority. See Canadian Pac. Ry.—Control—Dakota, Minn. & E. R.R., FD 35081 (STB served Sept. 30, 2008).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by April 22, 2015 (at least seven days before the exemption becomes effective).

An original and 10 copies of all pleadings, referring to Docket No. FD 35907, must be filed with the Surface Transportation Board, 395 E Street SW., Washington, DC 20423-0001. In addition, a copy of each pleading must be served on W. Karl Hansen, Stinson Leonard Street LLP, 150 South Fifth Street, Suite 2300, Minneapolis, MN 55402.

Board decisions and notices are available on our Web site at “WWW.STB.DOT.GOV.”

Decided: April 10, 2015.
By the Board, Rachel D. Campbell, Director, Office of Proceedings.
Brendetta S. Jones,
Clearance Clerk.

[FR Doc. 2015-08670 Filed 4-14-15; 8:45 am]

BILLING CODE 4915-01-P